DEPARTMENT OF EDUCATION

Notice of Submission for OMB Review

Correction

In notice document 2011-33263 appearing on pages 81486-81487 in the issue of Wednesday, December 28, 2011, make the following correction:

On page 81486, in the second column, under the DATES heading, in the third line “December 28, 2011” should read “January 27, 2012”.

[FR Doc. C1-2011-33263 Filed 1-5-12; 8:45 am]

BILLING CODE 1505-01-P